DEPARTMENT OF THE TREASURY

Internal Revenue Service

26 CFR Part 31

[REG-158747-06]

RIN 1545-BG45

Withholding Under Internal Revenue Code Section 3402(t)

Correction

In proposed rule document E8-28789 beginning on page 74082 in the issue of Friday, December 5, 2008 make the following corrections:

1. On page 74083, in the third column, in the last line of the first full paragraph, “§601.601(d)(2)(ii)(b)” should read “§601.601(d)(2)(ii)(b)”.

2. On page 74085, in the third column on the 17th line of the first full paragraph, “withholding” should read “withhold”.

3. On page 74090, in the third column, under the “List of Subjects in 26 CFR Part 31”, on the fourth line, “Social Security” should read “Social security”.

§31.3402(t)-1 [Corrected]

4. On the same page, in the same column, “§31.3402(t)-1 Withholding requirements on certain payments made by government entities.” is corrected to read “§31.3402(t)- Withholding requirement on certain payments made by government entities.”

[FR Doc. Z8-28789 Filed 2-20-09; 8:45 am]

BILLING CODE 1505-01-D